DEPARTMENT OF AGRICULTURE

Animal and Plant Health Inspection Service

9 CFR Parts 92, 93, 94, 95, 98 and 130

[Docket No. APHIS-2021-0003]

Definitions of the European Union and the United Kingdom

AGENCY: Animal and Plant Health Inspection Service, USDA.

ACTION: Final rule.

SUMMARY: We are amending the animal and animal product import regulations in order to reflect the exit of the United Kingdom (UK) from the European Union (EU). The revised regulations will treat as separate entities Great Britain (England, Scotland, and Wales) (GB) and Northern Ireland in various lists and definitions. We are also announcing that, for an interim period, during which the UK will transition to and implement their new animal health laws and policies, the current Animal and Plant Health Inspection Service import conditions for animals and animal products from the UK will continue to apply to imports from GB. In addition, we are announcing that because of Northern Ireland's stated intent to continue to follow EU animal health regulations and policies, we intend to consider the animal health statuses of Northern Ireland to be the same animal health statuses of equivalent EU Member States, wherever appropriate. We are also updating our definition of the EU, where necessary, to include Croatia. Lastly, we are further amending the regulations to update the names of staff offices and websites, and we are making other minor changes.

DATES: Effective August 16, 2021.

FOR FURTHER INFORMATION CONTACT: Mr. Javier Vargas, Senior Staff Officer, Regionalization Evaluation Services, Strategy and Policy, Veterinary Services, APHIS, 4700 River Road, Unit 38, Riverdale, MD 20737-1231; (301) 851-3316; AskRegionalization@usda.gov.

SUPPLEMENTARY INFORMATION:

Background

The regulations in 9 CFR parts 92, 93, 94, and 95 prescribe conditions for importing live animals and animal products into the United States. These regulations include regionalization and compartmentalization requirements (part 92); general requirements for animals and animal products (part 93); import restrictions and prohibitions pertaining to certain animal diseases, such as foot-and-mouth disease (part 94); and requirements for importation of certain animal byproducts (part 95).

Among other things, the regulations include provisions for the importation of animals and animal products from the European Union (EU). Heretofore, the EU has included the United Kingdom (UK). However, under the European Union (Withdrawal Agreement) Act 2020, widely referred to as Brexit, the UK ratified withdrawing from the EU and, on February 1, 2020, the UK formally left the EU. As a result, it has become necessary to update our regulations to reflect this change.

In this final rule, we are revising the regulations in parts 92, 93, 94, and 95 to indicate that the UK is no longer a Member State of the EU. With the UK's exit from the EU, Great Britain (GB), which consists of England, Scotland, and Wales, and Northern Ireland will operate under two different animal health regulation and policy structures. For an interim period, during which the UK will transition to and implement their new animal health laws and policies, the current APHIS import conditions for animals and animal products from the UK will continue to apply to imports from GB. APHIS will publish a follow-up Federal Register document when the interim period ends. Northern Ireland will continue to follow the EU animal health law structure and will revise its laws to remain harmonized with the EU. Because Northern Ireland has stated that it intends to continue to follow EU animal health regulations and policies, we will continue to allow Northern Ireland to maintain APHIS-recognized animal health statuses afforded to EU Member States, where appropriate.

In § 92.1, we are revising the list of Member States under the definition of European Union by removing the entry for the UK. We are also updating the definition by adding Croatia to the list because Croatia is now a Member State. Finally, we are adding a footnote to the definition stating that, as noted above, for animal health purposes, Northern Ireland will be following EU guidelines and will be treated the same as the Member States of the EU.

In § 93.301, we are revising the provisions for the importation of thoroughbred horses by removing the references to the UK and replacing them with entries for, respectively, “Great Britain (England, Scotland, and Wales)” and “Northern Ireland.” This language is consistent with that we are using elsewhere in this rule. In footnote 6, we are also updating the name of the French certifying organization.

In § 94.0, we are replacing the definition of APHIS-defined EU Poultry Trade Region with a definition of APHIS-defined European Poultry Trade Region. The existing definition of APHIS-defined EU Poultry Trade Region lists EU countries in that region and includes the UK. Reflecting the exit of the UK from the EU, the new definition of APHIS-defined European Poultry Trade Region reads as follows: “A single region consisting of Austria, Belgium, Cyprus, the Czech Republic, Denmark, Estonia, Finland, France, Germany, Great Britain (England, Scotland, and Wales), Greece, Hungary, Ireland (Republic of), Italy, Latvia, Lithuania, Luxembourg, Malta, the Netherlands, Northern Ireland, Poland, Portugal, Romania, Slovakia, Slovenia, Spain, and Sweden.”

In § 94.24, which contains restrictions on meat and edible products of ovines and caprines due to bovine spongiform encephalopathy, paragraph (a) contains a list of regions from which such imports are prohibited or restricted. That list includes the UK. We are revising that paragraph to eliminate that reference. In its place, we would refer instead to Great Britain (England, Scotland, and Wales) and, separately, Northern Ireland.

Section 94.28 contains restrictions on the importation of poultry and poultry products from the APHIS-defined EU Poultry Trade Region. We are revising the section heading and all the text throughout the section by replacing all references to the APHIS-defined EU Poultry Trade Region with references to the APHIS-defined European Poultry Trade Region. We are also replacing the words “Member State” each time they appear with “country.” These changes accord with our substitution of the latter term for the former in the definitions in § 94.0 and reflect the change in status of the UK in regard to the EU.

Section 95.4 provides for the restriction of imports of various animal products due to bovine spongiform encephalopathy. Paragraph (a) contains a list of restricted regions that includes the UK. Consistent with the other changes to the regulations, we are revising that paragraph to eliminate the reference to the UK and to refer instead to Great Britain (England, Scotland, and Wales) and, separately, Northern Ireland.

Miscellaneous

In addition to the Brexit-related changes described above to parts 92, 93, 94, and 95, we are updating outdated web links and mailing addresses for the public to use when requesting information on the animal disease statuses of foreign regions. The updates would apply to those three parts, as well as to 9 CFR parts 98 and 130, which contain, respectively, importation requirements for certain animal embryos and semen and regulations pertaining to Veterinary Services user fees. We are also making a couple of minor editorial changes to § 93.301 to clarify the instructions regarding accessing certain information on our website.

Effective Date

This rule relates to internal agency management and makes various nonsubstantive changes to the regulations in 9 CFR to reflect the current composition of the European Union and ensure addresses and weblinks are up to date. Because the changes contained in this rule are nonsubstantive in nature, notice and other public procedure on this rule are unnecessary and contrary to the public interest. Therefore, pursuant to 5 U.S.C. 553, notice of proposed rulemaking and opportunity to comment are not required, and this rule may be made effective less than 30 days after publication in the Federal Register. Further, since this rule relates to internal agency management, it is exempt from the provisions of Executive Orders 12866 and 12988. Finally, this action is not a rule as defined by the Regulatory Flexibility Act (5 U.S.C. 501) and, thus, is exempt from the provisions of that Act.

Executive Order 12372

This program/activity is listed in the Catalog of Federal Domestic Assistance under No. 10.025 and is subject to Executive Order 12372, which requires intergovernmental consultation with State and local officials. (See 2 CFR chapter IV.)

Executive Order 12988

This rule has been reviewed under Executive Order 12988, Civil Justice Reform. This rule: (1) Preempts all State and local laws and regulations that are inconsistent with this rule; (2) has no retroactive effect; and (3) does not require administrative proceedings before parties may file suit in court challenging this rule.

Congressional Review Act

Pursuant to the Congressional Review Act (5 U.S.C. 801 et seq.), the Office of Information and Regulatory Affairs designated this rule as not a major rule, as defined by 5 U.S.C. 804(2).

Paperwork Reduction Act

This rule contains no reporting or recordkeeping requirements under the Paperwork Reduction Act of 1995 (44 U.S.C. 3501 et seq.).

List of Subjects

9 CFR Part 92

Animal diseases, Imports, Livestock, Quarantine.

9 CFR Part 93

Animal diseases, Imports, Livestock, Poultry and poultry products, Reporting and recordkeeping requirements.

9 CFR Part 94

Animal diseases, Imports, Livestock, Meat and meat products, Milk, Poultry and poultry products, Reporting and recordkeeping requirements.

9 CFR Part 95

Animal feeds, Hay, Imports, Livestock, Reporting and recordkeeping requirements, Straw, Transportation.

9 CFR Part 98

Animal diseases, Imports.

9 CFR Part 130

Animal diseases, Exports, Imports, Poultry and poultry products, Quarantine.

Accordingly, 9 CFR parts 92, 93, 94, 95, 98, and 130 are amended as follows:

PART 92—IMPORTATION OF ANIMALS AND ANIMAL PRODUCTS: PROCEDURES FOR REQUESTING RECOGNITION OF REGIONS AND COMPARTMENTS

1. The authority citation for part 92 continues to read as follows:

Authority: 7 U.S.C. 1622 and 8301-8317; 21 U.S.C. 136 and 136a; 31 U.S.C. 9701; 7 CFR 2.22, 2.80, and 371.4.

2. Section 92.1 is amended by redesignating footnotes 1 and 2 as footnotes 2 and 3, respectively, and revising the definition of “European Union” to read as follows:

§ 92.1 Definitions.

* * * * *

European Union. The organization of Member States consisting of Austria, Belgium, Bulgaria, Croatia, Cyprus, the Czech Republic, Denmark, Estonia, Finland, France, Germany, Greece, Hungary, Ireland (Republic of), Italy, Latvia, Lithuania, Luxembourg, Malta, the Netherlands, Poland, Portugal, Romania, Slovakia, Slovenia, Spain, and Sweden.¹

* * * * *

¹ For animal health purposes, APHIS considers that Northern Ireland is following European Union regulations and policies and is treating it the same as Member States of the European Union.

* * * * *

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

3. The authority citation for part 93 continues to read as follows:

Authority: 7 U.S.C. 1622 and 8301-8317; 21 U.S.C. 136 and 136a; 31 U.S.C. 9701; 7 CFR 2.22, 2.80, and 371.4.

§ 93.101 [Amended]

4. Section 93.101 is amended as follows:

a. In footnote 2, by removing the words “National Center for Import-Export” and adding the words “Strategy and Policy” in their place; and

b. In footnotes 3 and 4, by removing the words “Operational Support,”.

5. Section 93.103 is amended as follows:

a. By revising footnote 8; and

b. In footnote 9, by removing the words “National Center for Import-Export” and adding the words “Strategy and Policy” in their place.

The revision reads as follows:

§ 93.103 Import permits for birds; and reservation fees for space at quarantine facilities maintained by APHIS.

* * * * *

⁸ VS import permit application forms are available from local offices of Veterinary Services, which are listed in telephone directories, from Strategy and Policy, Veterinary Services, Animal and Plant Health Inspection Service, 4700 River Road, Riverdale, MD 20737-1231, or by visiting https://www.aphis.usda.gov/aphis/resources/sa_epermits/eauth-epermits. For other permit requirements for birds, the regulations issued by the U.S. Department of the Interior (50 CFR parts 14 and 17) should be consulted.

* * * * *

§ 93.106 [Amended]

6. In § 93.106, footnote 11 is amended by removing the words “National Center for Import-Export” and adding the words “Strategy and Policy” in their place.

§ 93.201 [Amended]

7. In § 93.201, footnote 3 is amended by removing the words “National Center for Import-Export” and adding the words “Strategy and Policy” in their place.

§ 93.204 [Amended]

8. In § 93.204, footnote 5 is amended by removing the words “National Center for Import-Export” and adding the words “Strategy and Policy” in their place.

9. Section 93.301 is amended as follows:

a. In footnote 4, by removing the words “National Center for Import-Export” and adding the words “Strategy and Policy,” in their place;

b. By revising paragraphs (c)(1)(i) and (c)(2)(v), the paragraph (d) subject heading, paragraph (d)(1) introductory text, and footnote 6 in paragraph (d)(1)(ii)(B) introductory text;

c. In footnotes 7, 8, and 9, by removing the words “the National Center for Import and Export, Import/Export Animals” and adding the words “Strategy and Policy” in their place; and

d. By revising paragraphs (h)(6) and (7) and (j) introductory text.

The revisions read as follows:

§ 93.301 General prohibitions; exceptions.

* * * * *

(c) * * *

(1) * * *

(i) A list of regions that APHIS considers to be affected with CEM is maintained on the APHIS website at https://www.aphis.usda.gov/animalhealth/disease-status-of-regions. Copies of the list can be available via postal mail or email upon request to Regionalization Evaluation Services, Strategy and Policy, Veterinary Services, Animal and Plant Health Inspection Service, 4700 River Road, Unit 38, Riverdale, Maryland 20737; AskRegionalization@usda.gov.

* * * * *

(2) * * *

(v) Spanish Pure Breed horses imported for permanent entry from Spain or thoroughbred horses imported for permanent entry from France, Germany, Great Britain (England, Scotland, and Wales), the Ireland (Republic of), or Northern Ireland if the horses meet the requirements of paragraph (d) of this section;

* * * * *

(d) Spanish Pure Breed horses from Spain and thoroughbred horses from France, Germany, Great Britain (England, Scotland, and Wales), Ireland (Republic of), and Northern Ireland. (1) Spanish Pure Breed horses from Spain and thoroughbred horses from France, Germany, Great Britain (England, Scotland, and Wales), Ireland (Republic of), and Northern Ireland may be imported for permanent entry if the horses meet the following requirements:

* * * * *

(h) * * *

(6) Individual State requirements for receiving stallions over 731 days of age imported under paragraph (e) of this section can be accessed through the APHIS website at https://www.aphis.usda.gov/aphis/ourfocus/animalhealth/animal-disease-information/equine/cem/contagious-equine-metritis. The information can also be obtained via postal mail or email upon request to Strategy and Policy, Veterinary Services, Animal and Plant Health Inspection Service, 4700 River Road, Riverdale, Maryland 20737; VS.Live.Animal.Import.Export@usda.gov.

(7) Individual State requirements for receiving mares over 731 days of age imported under paragraph (e) of this section can be accessed through the APHIS website at https://www.aphis.usda.gov/aphis/ourfocus/animalhealth/animal-disease-information/equine/cem/contagious-equine-metritis. The information can also be obtained via postal mail or email upon request to Strategy and Policy, Veterinary Services, Animal and Plant Health Inspection Service, 4700 River Road, Riverdale, Maryland 20737; VS.Live.Animal.Import.Export@usda.gov.

* * * * *

(j) Examination and treatment for screwworm. Horses from regions where APHIS considers screwworm to exist may be imported into the United States only if they meet the requirements in paragraphs (j)(1) through (7) of this section and all other applicable requirements of this part. APHIS maintains a list of regions where screwworm is considered to exist on the APHIS website at https://www.aphis.usda.gov/animalhealth/disease-status-of-regions. Copies of the list are also available via postal mail or email upon request to Regionalization Evaluation Services, Strategy and Policy, Veterinary Services, Animal and Plant Health Inspection Service, 4700 River Road, Unit 38, Riverdale, Maryland 20737; AskRegionalization@usda.gov. APHIS will add a region to the list upon determining that screwworm exists in the region based on reports APHIS receives of detections of the pest from veterinary officials of the exporting country, from the World Organization for Animal Health (OIE), or from other sources the Administrator determines to be reliable. APHIS will remove a region from the list after conducting an evaluation of the region in accordance with § 92.2 of this subchapter and finding that screwworm is not present in the region. In the case of a region formerly not on this list that is added due to a detection, the region may be removed from the list in accordance with the procedures for reestablishment of a region's disease-free status in § 92.4 of this subchapter.

* * * * *

⁶ The following breed associations and their record systems have been approved by the Department: Asociacion Nacional de Criadores de Caballos de Pura Raza Española for Spain; Weatherby's Ltd. for Great Britain (England, Scotland, and Wales), Ireland (Republic of), and Northern Ireland; France Galop for France; and Direktorium für Vollblutzucht und Rennen e.V. for Germany.

* * * * *

10. Section 93.308 is amended as follows:

a. By revising paragraphs (a)(1)(i) and (a)(2)(i);

b. In footnote 11 in paragraph (a)(3), by removing the words “National Center for Import-Export” and adding the words “Strategy and Policy,” in their place; and

c. In paragraphs (b)(1) and (c)(1) and footnotes 12 and 13, by removing the words “National Center for Import and Export” and adding the words “Strategy and Policy,” in their place.

The revisions read as follows:

§ 93.308 Quarantine requirements.

(a) * * *

(1) * * *

(i) Horses imported from regions of the Western Hemisphere that APHIS considers to be free of Venezuelan equine encephalomyelitis are exempt from the requirements of paragraph (a)(1) of this section. A list of regions that APHIS has declared free of Venezuelan equine encephalomyelitis is maintained on the APHIS website at https://www.aphis.usda.gov/aphis/ourfocus/animalhealth/animal-and-animal-product-import-information/animal-health-status-of-regions. Copies of the list can be obtained via postal mail or email upon request to Regionalization Evaluation Services, Strategy and Policy, Veterinary Services, Animal and Plant Health Inspection Service, 4700 River Road, Unit 38, Riverdale, Maryland 20737; AskRegionalization@usda.gov.

* * * * *

(2) * * *

(i) A list of regions that APHIS considers affected with African horse sickness is maintained on the APHIS website at https://www.aphis.usda.gov/animalhealth/disease-status-of-regions. Copies of the list can be obtained via postal mail or email upon request to Regionalization Evaluation Services, Strategy and Policy, Veterinary Services, Animal and Plant Health Inspection Service, 4700 River Road, Unit 38, Riverdale, Maryland 20737; AskRegionalization@usda.gov.

* * * * *

§ 93.324 [Amended]

11. In § 93.324, footnote 19 is amended by removing the words “National Center for Import-Export” and adding the words “Strategy and Policy” in their place.

§ 93.400 [Amended]

12. Section 93.400 is amended as follows:

a. In the definition of “Fever tick, Rhipicephalus annulatus, Rhipicephalus microplus”, by removing “http://www.aphis.usda.gov/wps/portal/aphis/ourfocus/importexport” and adding “https://www.aphis.usda.gov/animalhealth/disease-status-of-regions” in its place; and

b. In footnote 1, by removing the words “National Center for Import and Export” and adding the words “Strategy and Policy” in their place.

§ 93.401 [Amended]

13. In § 93.401, footnote 4 is amended by removing the words “National Center for Import-Export” and adding the words “Strategy and Policy” in their place.

§ 93.404 [Amended]

14. In § 93.404, footnote 6 is amended by removing the words “National Center for Import-Export” and adding the words “Strategy and Policy” in their place.

15. In § 93.405, paragraph (a)(3) introductory text is revised to read as follows:

§ 93.405 Health certificate for ruminants.

(a) * * *

(3) If the ruminants are from any region where screwworm is considered to exist, the ruminants may be imported into the United States only if they meet the requirements of paragraphs (a)(3)(i) through (iv) of this section and all other applicable requirements of this part. APHIS maintains a list of regions where screwworm is considered to exist on the APHIS website at https://www.aphis.usda.gov/aphis/ourfocus/animalhealth/animal-and-animal-product-import-information/animal-health-status-of-regions. Copies of the list can be obtained via postal mail or email upon request to Regionalization Evaluation Services, Strategy and Policy, Veterinary Services, Animal and Plant Health Inspection Service, 4700 River Road, Unit 38, Riverdale, Maryland 20737; AskRegionalization@usda.gov. APHIS will add a region to the list upon determining that screwworm exists in the region based on reports APHIS receives of detections of the pest from veterinary officials of the exporting country, from the World Organization for Animal Health (OIE), or from other sources the Administrator determines to be reliable. APHIS will remove a region from the list after conducting an evaluation of the region in accordance with § 92.2 of this subchapter and finding that screwworm is not present in the region. In the case of a region formerly not on this list that is added due to a detection, the region may be removed from the list in accordance with the procedures for reestablishment of a region's disease-free status in § 92.4 of this subchapter.

* * * * *

§ 93.412 [Amended]

16. In § 93.412, paragraph (d)(1)(i) introductory text and footnote 7 are amended by removing the words “National Center for Import and Export” and adding the words “Strategy and Policy” in their place.

17. In § 93.427, paragraph (b)(1) introductory text is revised to read as follows:

§ 93.427 Cattle and other bovines from Mexico.

* * * * *

(b)(1) Cattle from regions of Mexico that APHIS has determined to be free from fever ticks. APHIS has evaluated certain regions of Mexico in accordance with § 92.2 of this chapter, and determined that they are free from fever ticks; a list of all such regions is found on the internet at https://www.aphis.usda.gov/animalhealth/disease-status-of-regions. Copies of the list can be obtained via postal mail or email upon request to Regionalization Evaluation Services, Strategy and Policy, Veterinary Services, Animal and Plant Health Inspection Service, 4700 River Road, Unit 38, Riverdale, Maryland 20737; AskRegionalization@usda.gov. Regions may be removed from the list based on a determination by APHIS that fever ticks exist in the region, on the discovery of tick-infested cattle from the region at a port of entry into the United States, or on information provided by a representative of the government of that region that fever ticks exist in the region. Cattle from regions of Mexico that APHIS has determined to be free from fever ticks may be imported into the United States subject to the following conditions:

* * * * *

§ 93.501 [Amended]

18. In § 93.501, footnote 4 is amended by removing the words “National Center for Import-Export” and adding the words “Strategy and Policy” in their place.

§ 93.504 [Amended]

19. In § 93.504, footnote 6 is amended by removing the words “National Center for Import-Export” and adding the words “Strategy and Policy” in their place.

20. In § 93.505, paragraph (b) introductory text is revised to read as follows:

§ 93.505 Certificate for swine.

* * * * *

(b) Swine from any region where screwworm is considered to exist may only be imported into the United States if they meet the requirements of paragraphs (b)(1) through (4) of this section and all other applicable requirements of this part. APHIS maintains a list of regions where screwworm is considered to exist on the APHIS website at

https://www.aphis.usda.gov/animalhealth/disease-status-of-regions. Copies of the list can be obtained via postal mail or email upon request to Regionalization Evaluation Services, Strategy and Policy, Veterinary Services, Animal and Plant Health Inspection Service, 4700 River Road, Unit 38, Riverdale, Maryland 20737; AskRegionalization@usda.gov. APHIS will add a region to the list upon determining that screwworm exists in the region based on reports APHIS receives of detections of the pest from veterinary officials of the exporting country, from the World Organization for Animal Health (OIE), or from other sources the Administrator determines to be reliable. APHIS will remove a region from the list after conducting an evaluation of the region in accordance with § 92.2 of this subchapter and finding that screwworm is not present in the region. In the case of a region formerly not on this list that is added due to a detection, the region may be removed from the list in accordance with the procedures for reestablishment of a region's disease-free status in § 92.4 of this subchapter.

* * * * *

21. In § 93.600, paragraph (a) introductory text is revised to read as follows:

§ 93.600 Importation of dogs.

(a) All dogs. Dogs from any region of the world where screwworm is considered to exist may only be imported into the United States if they meet the requirements of paragraphs (a)(1) and (2) of this section and all other applicable requirements of this part. APHIS maintains a list of regions where screwworm is considered to exist on the APHIS website at https://www.aphis.usda.gov/aphis/ourfocus/animalhealth/animal-and-animal-product-import-information/animal-health-status-of-regions. Copies of the list can be obtained via postal mail or email upon request to Regionalization Evaluation Services, Strategy and Policy, Veterinary Services, Animal and Plant Health Inspection Service, 4700 River Road, Unit 38, Riverdale, Maryland 20737; AskRegionalization@usda.gov. APHIS will add a region to the list upon determining that screwworm exists in the region based on reports APHIS receives of detections of the pest from veterinary officials of the exporting country, from the World Organization for Animal Health (OIE), or from other sources the Administrator determines to be reliable. APHIS will remove a region from the list after conducting an evaluation of the region in accordance with § 92.2 of this subchapter and finding that screwworm is not present in the region. In the case of a region formerly not on this list that is added due to a detection, the region may be removed from the list in accordance with the procedures for reestablishment of a region's disease-free status in § 92.4 of this subchapter.

* * * * *

22. In § 93.704, paragraph (b) is revised to read as follows:

§ 93.704 Import permit.

* * * * *

(b) Import permit required. Any person who desires to import a hedgehog or tenrec must submit an application (VS Form 17-129) for an import permit. Applications are available from, Strategy and Policy, Veterinary Services, Animal and Plant Health Inspection Service, 4700 River Road, Riverdale, Maryland 20737; or by visiting https://www.aphis.usda.gov/aphis/resources/sa_epermits/eauth-epermits. A separate application must be prepared for each shipment.

* * * * *

23. In § 93.802, paragraph (b) is revised to read as follows:

§ 93.802 Import permit.

* * * * *

(b) An application for an import permit may be obtained from Strategy and Policy, Veterinary Services, Animal and Plant Health Inspection Service, 4700 River Road, Riverdale, Maryland 20737; or by visiting https://www.aphis.usda.gov/aphis/resources/sa_epermits/eauth-epermits. A separate application must be prepared for each shipment.

* * * * *

§ 93.803 [Amended]

24. In § 93.803, paragraph (a)(4) is amended by removing the words “National Center for Import-Export” and adding the words “Strategy and Policy” in their place.

25. In § 93.804, the introductory text is revised to read as follows:

§ 93.804 Declaration upon arrival.

Upon arrival of an elephant, hippopotamus, rhinoceros, or tapir at a port of entry, the importer or the importer's agent shall notify APHIS of the arrival by giving an inspector a completed VS Form 17-29, “Declaration of Importation for Animals, Animal Semen, Birds, Poultry, and Eggs for Hatching.” (This form is available from Strategy and Policy, Veterinary Services, Animal and Plant Health Inspection Service, 4700 River Road, Riverdale, Maryland 20737 or by visiting https://www.aphis.usda.gov/aphis/resources/forms/ct_vs_forms.) Forms may be provided to the inspector using a U.S. Government electronic information exchange system or other authorized method. The completed form must state:

* * * * *

26. In § 93.903, paragraph (b) is revised to read as follows:

§ 93.903 Import permits for live fish, fertilized eggs, and gametes.

* * * * *

(b) An application for an import permit must be submitted for each shipment of live fish, fertilized eggs, or gametes of SVC-susceptible species to Strategy and Policy, Veterinary Services, Animal and Plant Health Inspection Service, 4700 River Road, Riverdale, MD 20737-1231. Application forms for import permits may be obtained from this address.

* * * * *

PART 94—FOOT-AND-MOUTH DISEASE, NEWCASTLE DISEASE, HIGHLY PATHOGENIC AVIAN INFLUENZA, AFRICAN SWINE FEVER, CLASSICAL SWINE FEVER, SWINE VESICULAR DISEASE, AND BOVINE SPONGIFORM ENCEPHALOPATHY: PROHIBITED AND RESTRICTED IMPORTATIONS

27. The authority citation for part 94 continues to read as follows:

Authority: 7 U.S.C. 1633, 7701-7772, 7781-7786, and 8301-8317; 21 U.S.C. 136 and 136a; 31 U.S.C. 9701; 7 CFR 2.22, 2.80, and 371.4.

28. Section 94.0 is amended as follows:

a. By removing the definition of “APHIS-defined EU Poultry Trade Region”;

b. By revising the definition of “APHIS-defined European CSF region”; and

c. By adding in alphabetical order a definition for “APHIS-defined European Poultry Trade Region”.

The revision and addition read as follows:

§ 94.0 Definitions.

* * * * *

APHIS-defined European CSF region. A single region of Europe recognized by APHIS as low risk for classical swine fever.

(1) A list of areas included in the region is maintained on the APHIS website at https://www.aphis.usda.gov/animalhealth/disease-status-of-regions. Copies of the list are also available via postal mail or email upon request to Regionalization Evaluation Services, Strategy and Policy, Veterinary Services, Animal and Plant Health Inspection Service, 4700 River Road, Unit 38, Riverdale, Maryland 20737; AskRegionalization@usda.gov.

(2) APHIS will add an area to the region after it conducts an evaluation of the area to be added in accordance with § 92.2 of this subchapter and finds that the risk profile for the area is equivalent with respect to classical swine fever to the risk profile for the region it is joining.

APHIS-defined European Poultry Trade Region. A single region consisting of Austria, Belgium, Cyprus, the Czech Republic, Denmark, Estonia, Finland, France, Germany, Great Britain (England, Scotland, and Wales), Greece, Hungary, Ireland (Republic of), Italy, Latvia, Lithuania, Luxembourg, Malta, the Netherlands, Northern Ireland, Poland, Portugal, Romania, Slovakia, Slovenia, Spain, and Sweden.

* * * * *

29. In § 94.1, paragraph (a)(1) is revised to read as follows:

§ 94.1 Regions where foot-and-mouth disease exists; importations prohibited.

(a) * * *

(1) A list of regions that APHIS has declared free of foot-and-mouth disease is maintained on the APHIS website at https://www.aphis.usda.gov/animalhealth/disease-status-of-regions. Copies of the list can be obtained via postal mail upon request to Regionalization Evaluation Services, Strategy and Policy, Veterinary Services, Animal and Plant Health Inspection Service, 4700 River Road, Unit 38, Riverdale, Maryland 20737; AskRegionalization@usda.gov.

* * * * *

30. In § 94.6, paragraphs (a)(1)(i) and (a)(2)(i), footnote 5 in paragraph (b)(2), and paragraph (d) are revised to read as follows:

§ 94.6 Carcasses, meat, parts or products of carcasses, and eggs (other than hatching eggs) of poultry, game birds, or other birds; importations from regions where Newcastle disease or highly pathogenic avian influenza is considered to exist.

(a) * * *

(1) * * *

(i) A list of free regions is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

(2) * * *

(i) A list of affected regions is maintained on the APHIS website at https://www.aphis.usda.gov/aphis/ourfocus/animalhealth/animal-and-animal-product-import-information/animal-health-status-of-regions. Copies of the list can be obtained via postal mail upon request to Regionalization Evaluation Services, Strategy and Policy, Veterinary Services, Animal and Plant Health Inspection Service, 4700 River Road, Unit 38, Riverdale, Maryland 20737; AskRegionalization@usda.gov.

* * * * *

(d) To apply for a permit, contact Strategy and Policy, Veterinary Services, Animal and Plant Health Inspection Service, 4700 River Road, Riverdale, Maryland 20737, or visit https://efile.aphis.usda.gov/s/vs-permitting-assistant.

* * * * *

⁵ The names and addresses of approved establishments may be obtained from, and requests for approval may be made to, Regionalization Evaluation Services, Strategy and Policy, Veterinary Services, APHIS, 4700 River Road, Unit 38, Riverdale, Maryland 20737-1231.

31. In § 94.8, paragraph (a)(2) is revised to read as follows:

§ 94.8 Pork and pork products from regions where African swine fever exists or is reasonably believed to exist.

(a) * * *

(2) A list of regions where African swine fever exists or the Administrator has reason to believe that African swine fever exists is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

32. In § 94.9, paragraph (a)(1) is revised to read as follows:

§ 94.9 Pork and pork products from regions where classical swine fever exists.

(a) * * *

(1) A list of regions that APHIS has declared free of classical swine fever is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

33. In § 94.10, paragraph (a)(1) is revised to read as follows:

§ 94.10 Swine from regions where classical swine fever exists.

(a) * * *

(1) A list of regions that APHIS has declared free of classical swine fever is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

34. In § 94.11, paragraph (a)(2) is revised to read as follows:

§ 94.11 Restrictions on importation of meat and other animal products from specified regions.

(a) * * *

(2) A list of regions whose products are regulated under this section is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

35. Section 94.12 is amended as follows:

a. By revising paragraph (a)(1); and

b. In footnote 12, by removing the words “National Center for Import-Export” and adding the words “Strategy and Policy” in their place.

The revision reads as follows:

§ 94.12 Pork and pork products from regions where swine vesicular disease exists.

(a) * * *

(1) A list of regions that APHIS has declared free of swine vesicular disease is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

36. In § 94.13, paragraph (a)(2) is revised to read as follows:

§ 94.13 Restrictions on importation of pork or pork products from specified regions.

(a) * * *

(2) A list of regions whose products are regulated under this section is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

37. In § 94.15, paragraphs (b)(1) and (c)(1) are revised to read as follows:

§ 94.15 Animal products and materials; movement and handling.

* * * * *

(b) * * *

(1) The person desiring to move the pork and pork products through the United States obtains a United States Veterinary Permit for Importation and Transportation of Controlled Materials and Organisms and Vectors (VS Form 16-6). (An application for the permit may be obtained from Strategy and Policy, Veterinary Services, Animal and Plant Health Inspection Service, 4700 River Road, Riverdale, Maryland 20737; or by visiting https://efile.aphis.usda.gov/s/vs-permitting-assistant.)

* * * * *

(c) * * *

(1) The person desiring to move the poultry carcasses, parts, or products through the United States obtains a United States Veterinary Permit for Importation and Transportation of Controlled Materials and Organisms and Vectors (VS Form 16-6). An application for the permit may be obtained from Strategy and Policy, Veterinary Services, Animal and Plant Health Inspection Service, 4700 River Road, Riverdale, Maryland 20737; or by visiting https://efile.aphis.usda.gov/s/vs-permitting-assistant.

* * * * *

§ 94.16 [Amended]

38. In § 94.16, footnote 14 is amended by removing the words “National Center for Import-Export” and adding the words “Strategy and Policy” in their place.

39. In § 94.23, paragraph (f) is revised to read as follows:

§ 94.23 Importation of gelatin derived from bovines.

* * * * *

(f) The Administrator determines that the gelatin will not come into contact with ruminants in the United States and can be imported under conditions that will prevent the introduction of BSE into the United States, and the person importing the gelatin has obtained a United States Veterinary Permit for Importation and Transportation of Controlled Materials and Organisms and Vectors. To apply for a permit, file a permit application on VS Form 16-3 (available from Strategy and Policy, Veterinary Services, APHIS, 4700 River Road, Unit 38, Riverdale, MD 20737-1231, or electronically at https://efile.aphis.usda.gov/s/vs-permitting-assistant). The application for such a permit must state the intended use of the gelatin and name and address of the consignee in the United States.

40. In § 94.24, paragraphs (a) and (b)(2) are revised to read as follows:

§ 94.24 Restrictions on importation of meat and edible products from ovines and caprines due to bovine spongiform encephalopathy.

(a) Except as provided in paragraph (b) of this section and in § 94.25, the importation of meat, meat products, and edible products other than meat (excluding milk and milk products) from ovines and caprines that have been in any of the following regions is prohibited: Albania, Andorra, Austria, Belgium, Bosnia-Herzegovina, Bulgaria, Canada, Croatia, the Czech Republic, Denmark, the Federal Republic of Yugoslavia, Finland, France, Germany, Great Britain (England, Scotland, and Wales), Greece, Hungary, Ireland (Republic of), Israel, Italy, Japan, Liechtenstein, Luxembourg, the Former Yugoslav Republic of Macedonia, Monaco, Northern Ireland, Norway, Oman, the Netherlands, Poland, Portugal, Romania, San Marino, Slovakia, Slovenia, Spain, Sweden, and Switzerland.

(b) * * *

(2) The person importing the gelatin obtains a United States Veterinary Permit for Importation and Transportation of Controlled Materials and Organisms and Vectors by filing a permit application on VS Form 16-3. Permit applications are available from Strategy and Policy, Veterinary Services, APHIS, 4700 River Road, Riverdale, MD 20737-1231, or at https://efile.aphis.usda.gov/s/vs-permitting-assistant. Forms may be submitted using a U.S. Government electronic information exchange system or other authorized method. The application for such a permit must state the intended use of the gelatin and name and address of the consignee in the United States.

41. Section 94.28 is amended as follows:

a. By revising the section heading; and

b. By removing the words “EU Poultry Trade Region” each time they appear and adding the words “European Poultry Trade Region” in their place, and by removing the words “Member State” each time they appear and adding the word “country” in their place.

The revision reads as follows:

§ 94.28 Restrictions on the importation of poultry meat and products, and live birds and poultry, from the APHIS-defined European Poultry Trade Region.

* * * * *

42. In § 94.32, paragraph (a)(2) is revised to read as follows:

§ 94.32 Restrictions on the importation of live swine, pork, or pork products from certain regions free of classical swine fever.

(a) * * *

(2) A list of regions whose live swine, pork, and pork products are regulated under this section is maintained on the APHIS website at https://www.aphis.usda.gov/aphis/ourfocus/animalhealth/animal-and-animal-product-import-information/animal-health-status-of-regions. Copies of the list are also available via postal mail upon request to Regionalization Evaluation Services, Strategy and Policy, Veterinary Services, Animal and Plant Health Inspection Service, 4700 River Road, Unit 38, Riverdale, Maryland 20737; AskRegionalization@usda.gov.

* * * * *

PART 95—SANITARY CONTROL OF ANIMAL BYPRODUCTS (EXCEPT CASINGS), AND HAY AND STRAW, OFFERED FOR ENTRY INTO THE UNITED STATES

43. The authority citation for part 95 continues to read as follows:

Authority: 7 U.S.C. 8301-8317; 21 U.S.C. 136 and 136a; 31 U.S.C. 9701; 7 CFR 2.22, 2.80, and 371.4.

44. In § 95.4, paragraphs (a)(4), (c)(8), (e)(2), and (f) are revised to read as follows:

§ 95.4 Restrictions on the importation of processed animal protein, offal, tankage, fat, glands, certain tallow other than tallow derivatives, and serum due to bovine spongiform encephalopathy.

(a) * * *

(4) Albania, Andorra, Austria, Belgium, Bosnia-Herzegovina, Bulgaria, Canada, Croatia, the Czech Republic, Denmark, the Federal Republic of Yugoslavia, Finland, France, Germany, Great Britain (England, Scotland, and Wales), Greece, Hungary, Ireland (Republic of), Israel, Italy, Japan, Liechtenstein, Luxembourg, the Former Yugoslav Republic of Macedonia, Monaco, Northern Ireland, Norway, Oman, the Netherlands, Poland, Portugal, Romania, San Marino, Slovakia, Slovenia, Spain, Sweden, and Switzerland.

* * * * *

(c) * * *

(8) The person importing the shipment has applied for and obtained from APHIS a United States Veterinary Permit for Importation and Transportation of Controlled Materials and Organisms and Vectors by filing a permit application on VS Form 16-3, which may be obtained from Strategy and Policy, Veterinary Services, APHIS, 4700 River Road, Unit 38, Riverdale, MD 20737-1231, or electronically at https://efile.aphis.usda.gov/s/vs-permitting-assistant.

* * * * *

(e) * * *

(2) The person importing the article has obtained a United States Veterinary Permit for Importation and Transportation of Controlled Materials and Organisms and Vectors by filing a permit application on VS Form 16-3, which may be obtained from Strategy and Policy, Veterinary Services, APHIS, 4700 River Road, Riverdale, MD 20737-1231; or electronically at https://efile.aphis.usda.gov/s/vs-permitting-assistant; and

* * * * *

(f) Insulin otherwise prohibited under paragraphs (a) and (b) of this section may be imported if the insulin is for the personal medical use of the person importing it and if the person importing the shipment has applied for and obtained from APHIS a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the insulin and the name and address of the consignee in the United States.

Note to Paragraph (f): Insulin that is not prohibited from importation under this paragraph may be prohibited from importation under other Federal laws, including the Federal Food, Drug, and Cosmetic Act, 21 U.S.C. 321 et seq.

* * * * *

45. In § 95.5, paragraph (d) is revised to read as follows:

§ 95.5 Processed animal protein derived from ruminants.

* * * * *

(d) The person importing the processed animal protein obtains a United States Veterinary Permit for Importation and Transportation of Controlled Materials and Organisms and Vectors by filing a permit application on VS Form 16-3. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the processed animal protein and name and address of the consignee in the United States.

* * * * *

46. Section 95.6 is revised to read as follows:

§ 95.6 Offal derived from bovines.

Offal derived from bovines is prohibited importation into the United States unless it meets the requirements for the importation of meat, meat products, and meat byproducts in either § 94.19, § 94.20, or § 94.21, with the exception of the requirements in §§ 94.19(c), 94.20(b), and 94.21(b), respectively. The person importing the offal must obtain a United States Veterinary Permit for Importation and Transportation of Controlled Materials and Organisms and Vectors by filing a permit application on VS Form 16-3. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the offal and name and address of the consignee in the United States.

47. In § 95.7, paragraph (f) is revised to read as follows:

§ 95.7 Collagen derived from bovines.

* * * * *

(f) The Administrator determines that the collagen will not come into contact with ruminants in the United States and can be imported under conditions that will prevent the introduction of BSE into the United States, and the person importing the collagen has obtained a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the collagen and the name and address of the consignee in the United States.

* * * * *

48. In § 95.8, paragraph (f) is revised to read as follows:

§ 95.8 Tallow derived from bovines.

* * * * *

(f) The Administrator determines that the tallow will not come into contact with ruminants in the United States and can be imported under conditions that will prevent the introduction of BSE into the United States, and the person importing the tallow has obtained a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the tallow and the name and address of the consignee in the United States.

* * * * *

49. In § 95.9, paragraph (g) is revised to read as follows:

§ 95.9 Derivatives of tallow derived from bovines.

* * * * *

(g) The Administrator determines that the tallow derivative will not come into contact with ruminants in the United States and can be imported under conditions that will prevent the introduction of BSE into the United States, and the person importing the tallow derivative has obtained a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the tallow derivative and the name and address of the consignee in the United States.

* * * * *

50. In § 95.10, paragraph (f) is revised to read as follows:

§ 95.10 Dicalcium phosphate derived from bovines.

* * * * *

(f) The Administrator determines that the dicalcium phosphate will not come into contact with ruminants in the United States and can be imported under conditions that will prevent the introduction of BSE into the United States, and the person importing the dicalcium phosphate has obtained a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the dicalcium phosphate and the name and address of the consignee in the United States.

* * * * *

51. Section 95.11 is revised to read as follows:

§ 95.11 Specified risk materials.

Notwithstanding any other provisions of this part, the importation of specified risk materials from controlled-risk regions or undetermined-risk regions for BSE, and any commodities containing such materials, is prohibited, unless the Administrator determines that the materials or other commodities will not come into contact with ruminants in the United States and can be imported under conditions that will prevent the introduction of BSE into the United States, and the person importing the materials or other commodities has obtained a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant. The application for such a permit must state the intended use of the materials and other commodities and the name and address of the consignee in the United States.

52. In § 95.13, paragraph (c) is revised to read as follows:

§ 95.13 Importation from regions of negligible risk for BSE of processed animal protein derived from animals other than ruminants.

* * * * *

(c) The person importing the shipment has applied for and obtained from APHIS a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant.

* * * * *

53. In § 95.14, paragraph (h) is revised to read as follows:

§ 95.14 Importation from regions of controlled risk or undetermined risk for BSE of processed animal protein derived from animals other than ruminants.

* * * * *

(h) The person importing the shipment has applied for and obtained from APHIS a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant.

* * * * *

54. In § 95.15, paragraph (d) is revised to read as follows:

§ 95.15 Transit shipment of articles.

* * * * *

(d) The person moving the articles must obtain a United States Veterinary Permit for Importation and Transportation of Controlled Materials and Organisms and Vectors. To apply for a permit, file a permit application on VS Form 16-3, which is available from Strategy and Policy, Veterinary Services, APHIS, 4700 River Road, Riverdale, MD 20737-1231, or electronically at https://efile.aphis.usda.gov/s/vs-permitting-assistant.

* * * * *

§ 95.16 [Amended]

55. In § 95.16, footnote 2 is amended by removing the words “National Center for Import and Export” and adding the words “Strategy and Policy” in their place.

PART 98—IMPORTATION OF CERTAIN ANIMAL EMBRYOS AND ANIMAL SEMEN

56. The authority citation for part 98 continues to read as follows:

Authority: 7 U.S.C. 1622 and 8301-8317; 21 U.S.C. 136 and 136a; 31 U.S.C. 9701; 7 CFR 2.22, 2.80, and 371.4.

§ 98.4 [Amended]

57. In § 98.4, paragraph (b) is amended by removing the words “National Center for Import-Export” and adding the words “Strategy and Policy” in their place.

§ 98.13 [Amended]

58. In § 98.13, paragraph (b) introductory text is amended by removing the words “National Center for Import-Export” and adding the words “Strategy and Policy” in their place.

PART 130—USER FEES

59. The authority citation for part 130 continues to read as follows:

Authority: 5 U.S.C. 5542; 7 U.S.C. 1622 and 8301-8317; 21 U.S.C. 136 and 136a; 31 U.S.C. 3701, 3716, 3717, 3719, and 3720A; 7 CFR 2.22, 2.80, and 371.4.

§ 130.1 [Amended]

60. In § 130.1, footnote 1 is amended by removing the words “National Center for Import-Export” and adding the words “Strategy and Policy” in their place.

§ 130.22 [Amended]

61. In § 130.22, paragraph (b) is amended by removing the words “National Center for Import-Export” and adding the words “Strategy and Policy” in their place.

§ 130.50 [Amended]

62. In § 130.50, footnote 7 is amended by removing the words “National Center for Import and Export” and adding the words “Strategy and Policy” in their place.

Done in Washington, DC, this 3rd day of August 2021.
Michael Watson,
Administrator, Animal and Plant Health Inspection Service.

[FR Doc. 2021-16900 Filed 8-13-21; 8:45 am]

BILLING CODE 3410-34-P